DEPARTMENT OF HOMELAND SECURITY

Coast Guard

33 CFR Part 165

[Docket No. USCG-2024-0032]

Safety Zone; Atlantic Intracoastal Waterway, Swansboro, NC

AGENCY: Coast Guard, DHS.

ACTION: Notification of enforcement of regulation.

SUMMARY: The Coast Guard will enforce safety zone for the Town of Swansboro Fireworks Display—July 4 Celebration display on July 3, 2024, to provide for the safety of life on navigable waterways of the Atlantic Intracoastal Waterway during this event. Our regulation for marine events within the Fifth Coast Guard District identifies the regulated area for this event in Swansboro, NC. During the enforcement period, entry of vessels or persons into this safety zone is prohibited unless specifically authorized by the Captain of the Port (COTP) North Carolina or any Official Patrol displaying a Coast Guard ensign.

DATES: The regulation for the event listed in item 15, in Table 4 to paragraph (h)(4) to 33 CFR 165.506, will be enforced from 9 p.m. until 9:45 p.m. on July 3, 2024.

FOR FURTHER INFORMATION CONTACT: If you have questions about this notification of enforcement, call or email Chief Petty Officer Elvin Rodriguez, Waterways Management Division, U.S. Coast Guard Sector North Carolina; telephone 910-998-2239, email NCMarineevents@uscg.mil.

SUPPLEMENTARY INFORMATION: The Coast Guard will enforce a safety zone in 33 CFR 165.506(h)(4) for the Town of Swansboro Fireworks Display—July 4 Celebration fireworks display from 9 p.m. to 9:45 p.m. on July 3, 2024. Although the table lists the enforcement periods for this event as July 4 and the second Saturday in October, paragraph (c) of § 165.506 notes that the dates of enforcement periods are subject to change. This action is being taken to provide for the safety of life on navigable waterways during this event. Our regulation for marine events within the Fifth Coast Guard District, § 165.506(h)(4), specifies the location of the regulated area for the Town of Swansboro Fireworks Display—July 4 Celebration fireworks display at item 15 in Table 4 to paragraph (h)(4) of § 165.506, which encompasses portions of the Atlantic Intracoastal Waterway. As reflected in § 165.506, during the enforcement period, the operator of vessels in the regulated area must comply with directions from the Captain of the Port (COTP) North Carolina or any Official Patrol displaying a Coast Guard ensign.

In addition to this notification of enforcement in the Federal Register, the Coast Guard plans to provide notification of this enforcement period via the Local Notice to Mariners, marine information broadcasts, local radio stations and area newspapers.

Timothy J. List,
Captain, U.S. Coast Guard, Captain of the Port North Carolina.

[FR Doc. 2024-13858 Filed 6-24-24; 8:45 am]

BILLING CODE 9110-04-P